DEPARTMENT OF JUSTICE

[OMB Number 1110-0006]

Agency Information Collection Activities; Proposed eCollection eComments Requested; Extension Without Change, of a Previously Approved Collection; Law Enforcement Officers Killed or Assaulted

AGENCY: Federal Bureau of Investigation, Department of Justice.

ACTION: 60-day notice.

SUMMARY: The Department of Justice, Federal Bureau of Investigation, Criminal Justice Information Services Division (CJIS) has submitted the following Information Collection Request to the Office of Management and Budget (OMB) for review and clearance in accordance with the established review procedures of the Paperwork Reduction Act of 1995.

DATES: Comments are encouraged and will be accepted for 60 days until April 25, 2016.

FOR FURTHER INFORMATION CONTACT: If you have additional comments especially on the estimated public burden or associated response time, suggestions, or need a copy of the proposed information collection instrument with instructions or additional information, please contact Mr. Samuel Berhanu, Unit Chief, Federal Bureau of Investigation, CJIS Division, Module E-3, 1000 Custer Hollow Road, Clarksburg, West Virginia 26306; facsimile (304) 625-3566.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection: Extension of a currently approved collection.

2. The Title of the Form/Collection: Law Enforcement Officers Killed or Assaulted.

3. The agency form number, if any, and the applicable component of the Department sponsoring the collection: The applicable component within the Criminal Justice Information Services Division, Federal Bureau of Investigation, Department of Justice.

4. Affected public who will be asked or required to respond, as well as a brief abstract: Under Title 28, U.S. Code 534, Acquisition, Preservation, and Exchange of Identification Records; Appointments of Officials, 1930, this collection requests Law Enforcement Officers Killed and Assaulted data from city, county, state, federal, and tribal law enforcement agencies in order for the FBI UCR Program to serve as the national clearinghouse for the collection and dissemination of crime data and to publish these statistics in the Law Enforcement Officers Killed and Assaulted annual publication.

5. An estimate of the total number of respondents and the amount of time estimated for an average respondent to respond: There are approximately 18,498 law enforcement agency respondents; calculated estimates indicate 7 minutes per report.

6. An estimate of the total public burden (in hours) associated with the collection: There are approximately 162,235 hours, annual burden associated with this information collection.

If additional information is required contact: Jerri Murray, Department Clearance Officer, United States Department of Justice, Justice Management Division, Policy and Planning Staff, Two Constitution Square, 145 N Street NE., 3E.405B, Washington, DC 20530.

Dated: February 22, 2016.
Jerri Murray,
Department Clearance Officer for PRA, U.S. Department of Justice.

[FR Doc. 2016-04024 Filed 2-24-16; 8:45 am]

BILLING CODE 4410-02-P